ENVIRONMENTAL PROTECTION AGENCY

[EPA-HQ-OPP-2015-0021; FRL-9930-12]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before August 19, 2015.

ADDRESSES: Submit your comments, identified by docket identification (ID) number EPA-HQ-OPP-2015-0021 and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

Jennifer Mclain, Acting Director, Antimicrobials Division (AD) (7510P), Office of Pesticide Programs, Environmental Protection Agency, 1200 Pennsylvania Ave. NW., Washington, DC 20460-0001; main telephone number: (703) 305-7090; email address: ADFRNotices@epa.gov.

Robert McNally, Director, Biopesticides and Pollution Prevention Division (BPPD) (7511P), Office of Pesticide Programs, Environmental Protection Agency, 1200 Pennsylvania Ave. NW., Washington, DC 20460-0001; main telephone number: (703) 305-7090; email address: BPPDFRNotices@epa.gov.

Susan Lewis, Director, Registration Division (RD) (7505P), Office of Pesticide Programs, Environmental Protection Agency, 1200 Pennsylvania Ave. NW., Washington, DC 20460-0001; main telephone number: (703) 305-7090; email address: RDFRNotices@epa.gov.

The Division to contact is listed at the end of each application in Unit II.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

File Symbol: 70644-L. Docket ID number: EPA-HQ-OPP-2015-0417. Applicant: LidoChem, Inc., 20 Village Ct., Hazlet, NJ 07730. Product name: Varnimo® ST. Active ingredient: Nematocide and Plant Growth Regulator; Bacillus amyloliquefaciens strain PTA-4838 at 73.4%. Proposed classification/Use: None. Contact: BPPD.

File Symbol: 70644-A. Docket ID number: EPA-HQ-OPP-2015-0417. Applicant: LidoChem, Inc., 20 Village Ct., Hazlet, NJ 07730. Product name: Varnimo® WSP. Active ingredient: Fungicide, Plant Growth Regulator, and Nematocide; Bacillus amyloliquefaciens strain PTA-4838 at 0.29%. Proposed classification/Use: None. Contact: BPPD.

File Symbol: 70644-T. Docket ID number: EPA-HQ-OPP-2015-0417. Applicant: LidoChem, Inc., 20 Village Ct., Hazlet, NJ 07730. Product name: Varnimo® Technical. Active ingredient: Manufacturing Use; Bacillus amyloliquefaciens strain PTA-4838 at 73.4%. Proposed classification/Use: None. Contact: BPPD.

File Symbol: 84427-R. Docket ID number: EPA-HQ-OPP-2015-0418. Applicant: University of Florida, Institute of Food and Agricultural Sciences, 700 Experiment Station Rd., Lake Alfred, FL 33850. Product name: X17-2 Papaya. Active ingredient: Plant-Incorporated Protectant; Papaya Ringspot Virus Resistance Gene (Papaya Ringspot Virus Coat Protein Gene) in X17-2 Papaya at 0.00000005%. Proposed classification/Use: None. Contact: BPPD.

File Symbol: 89046-G. Docket ID number: EPA-HQ-OPP-2015-0419. Applicant: AEF Global, Inc. c/o SciReg, Inc., 12733 Director's Loop, Woodbridge, VA 22192. Product name: Bioprotec Technical. Active ingredient: Manufacturing Use; Bacillus thuringiensis subspecies kurstaki strain EVB-113-19 at 99.2%. Proposed classification/Use: None. Contact: BPPD.

File Symbol: 71512-EI and 71512-EO. Docket ID number: EPA-HQ-OPP-2015-0383. Applicant: ISK Biosciences Corporation, 7470 Auburn Road, Suite A, Concord, Ohio 44077. Product names: Technical Tolpyralate Herbicide and Tolpyralate 400SC Herbicide. Active ingredient: Herbicide and Tolpyralate at 97% (Technical Herbicide) and 37% (400SC Herbicide). Proposed classification/Use: Corn (field corn, sweet corn, and popcorn). Contact: RD.

File Symbol: 10163-GGG. Docket ID number: EPA-HQ-OPP-2015-0226. Applicant: Gowan Company, P.O. Box 5569, Yuma, AZ 85366. Product name: Benzobicyclon Technical. Active ingredient: Herbicide, benzobicyclon at 98%. Proposed classification/Use: Formulating into end-use products for use on rice (grain, straw). Contact: RD.

File Symbol: 10163-GGU. Docket ID number: EPA-HQ-OPP-2015-0226. Applicant: Gowan Company, P.O. Box 5569, Yuma, AZ 85366. Product name: Butte Herbicide. Active ingredients: Herbicide, benzobicyclon at 3% and halosulfuron at .64%. Proposed classification/Use: Rice (grain, straw). Contact: RD.

File Symbols: 59639-ENR, 59639-ENN, 59639-ROO, and 59639-ROI: Docket ID number: EPA-HQ-OPP-2014-0285. Applicant: Valent USA Corporation, 1600 Riviera Ave., Suite 200, Walnut Creek, CA 94596. Product names: S 2200 Fungicide Technical, S 2200 3.2 FS Fungicide, S 2200 4SC VPP Fungicide, and S 2200 4SC Ag Fungicide. Active ingredient: Fungicide, S 2200 (Mandestrobin) at 88.8%, 35.1%, 43.4% and 43.4%, respectively. Proposed classification/Use: Small fruit vine climbing, except fuzzy kiwifruit crop subgroup 13-F, Low growing berry subgroup 13-07G, Rapeseed Crop Subgroup 20A, Turf, and Seed Treatment. Contact: RD.

File Symbol: 91581-R. Docket ID number: EPA-HQ-OPP-2015-0367. Applicant: I-Tech AB, Pepparedsleden 1, Gothenburg, SE43183, Sweden. Product name: Selektope. Active ingredient: Antimicrobial and Medetomidine at 99.8%. Proposed classification/Use: Antifoulant Paint Contact: AD.

File Symbol: 91581-E. Docket ID number: 2015-0367. Applicant: I-Tech AB, Pepparedsleden 1, Gothenburg, SE43183, Sweden. Product name: CMP-2 RED. Active ingredient: Antimicrobial and Medetomidine at 4.41%. Proposed classification/Use: Antifoulant Paint Contact: AD.

File Symbol: 56228-AN. Docket ID number: EPA-HQ-OPP-2015-0319. Applicant: U.S. Department of Agriculture, Animal and Plant Health Inspection Service, Policy and Program Development, Environmental and Risk Analysis Services, Unit 149, 4700 River Road, Riverdale, MD 20737. Product name: Sodium Nitrite Technical. Active ingredient: Rodenticide, Sodium Nitrite at 99%. Proposed classification/Use: Manufacturing use. Contact: RD.

Authority: 7 U.S.C. 136 et seq.

Dated: July 8, 2015.
Jennifer Mclain,
Acting Director, Antimicrobials Division, Office of Pesticide Programs.

[FR Doc. 2015-17738 Filed 7-17-15; 8:45 am]

BILLING CODE 6560-50-P